ENVIRONMENTAL PROTECTION AGENCY

[FRL-8205-9]

Proposed CERCLA Administrative Cost Recovery Settlement; Industrial Chrome Plating, Incorporated

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of past response costs concerning the Industrial Chrome Plating Time-Critical Removal Site in Portland, Oregon with the following settling party: Industrial Chrome Plating, Incorporated (ICP). The settlement requires the settling party to pay $66,000.00 to the Hazardous Substance Superfund. The settlement includes a covenant not to sue the settling party pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the U.S. EPA Region 10 offices, located at 1200 Sixth Avenue, Seattle, Washington 98101.

DATES: Comments must be submitted on or before September 5, 2006.

ADDRESSES: The proposed settlement is available for public inspection at the U.S. EPA Region 10 offices, located at 1200 Sixth Avenue, Seattle, Washington 98101. A copy of the proposed settlement may be obtained from Carol Kennedy, Regional Hearing Clerk, U.S. EPA Region 10, 1200 Sixth Avenue, Mail Stop ORC-158, Seattle, Washington 98101; (206) 553-0242. Comments should reference the Industrial Chrome Plating Time-Critical Removal Site in Portland, Oregon and EPA Docket No. CERCLA-10-2006-0035 and should be addressed to Dean Ingemansen, Assistant Regional Counsel, U.S. EPA Region 10, Mail Stop ORC-158, 1200 Sixth Avenue, Seattle, Washington 98101.

FOR FURTHER INFORMATION CONTACT: Dean Ingemansen, Assistant Regional Counsel, U.S. EPA Region 10, Mail Stop ORC-158, 1200 Sixth Avenue, Seattle, Washington 98101; (206) 553-1744.

SUPPLEMENTARY INFORMATION: The ICP Site, a former chrome plating facility, is located in a predominantly residential neighborhood on the southeast corner of NE 62nd Avenue and NE Hassalo Street in Portland, Oregon. In July 2001, EPA was requested by the Oregon Department of Environmental Quality (ODEQ) to conduct a time-critical removal action at the Site due to evidence of chrome plating wastes having leaked onto the ground and into the subsurface at the Site. When EPA began the removal action on August 27, 2001, there were chromium and lead-contaminated soils, plating wastes, and other hazardous substances at the Site. In order to get at the subsurface contamination, the buildings at the Site had to be torn down. Removal of the ICP building, liquid wastes, and soils was completed at the end of November 2001. Soils were excavated to a maximum depth of 20 feet below grade. Approximately 4,000 gallons of chromic acid was pumped from on-site dip tanks and holding tanks to a tanker truck and delivered to Burlington Environmental in Kent, Washington, for proper disposal. Another 100 gallons and 500 pounds of hazardous substances including paint wastes, corrosive liquids, mercury, and PCB wastes were packed and transported to Philip Services, Incorporated, in Washington state. The excavation resulted in 4,718 tons of hazardous wastes shipped to U.S. Ecology in Grand View, Idaho, and 1,098 tons of special waste delivered to the Waste Management Hillsboro, Oregon, landfill. A protective asphalt cap was placed over the entire Site to prevent surface water infiltration. The settlement requires payment of $66,000.00, an amount equal to the fair market value of the real property owned by ICP, which is the only asset of ICP, a defunct Oregon corporation. ICP has proposed to sell this property in order to pay the settlement amount. In addition, the settlement requires (and ICP has already placed) a deed notice on the title to the Site property. This deed notice notifies all owners of this property of the need to maintain the integrity of the asphalt cap, and of the need to contact the ODEQ if the property owner decides to build on the Site or otherwise puncture or destroy the asphalt cap. ODEQ has issued a conditional “No Further Action” letter for the Site conditioned upon, among other things, the property owner maintaining the integrity of the cap.

Dated: July 28, 2006.
Ron Kreizenbeck,
Acting Regional Administrator, Region 10.

[FR Doc. E6-12624 Filed 8-3-06; 8:45 am]

BILLING CODE 6560-50-P